DEPARTMENT OF TRANSPORTATION

Federal Transit Administration

Notice of Granted Buy America Waivers

AGENCY: Federal Transit Administration (FTA), DOT.

ACTION: Notice of granted Buy America waivers.

SUMMARY: The following waivers will permit ticket vending machine manufacturers to install and count as domestic for purposes of the Buy America Act, 49 U.S.C. 5323(j), as implemented by the Federal Transit Administration at 49 CFR part 661, the Mars Electronics International (MEI) BNA57/542 Banknote Validator, the Asahi Seiko USA, Inc. (Asahi Seiko) Model SA-595 Compact Coin Dispensing Hopper, and the Nextek Corporation (Nextek) BV-6000 Currency Validator Tekpak. Each waiver is valid for a period of 2 years, or until such time as a domestic source for the product becomes available, whichever occurs first. This notice shall ensure that the public is aware of the waivers. FTA requests that the public notify it if a domestic source for any of the above-listed products becomes available.

FOR FURTHER INFORMATION CONTACT: Jayme L. Blakesley, Attorney-Advisor, Federal Transit Administration, U.S. Department of Transportation, 400 Seventh Street, SW., Room 9316, Washington, DC 20590-0001. E-mail: jayme.blakesley@dot.gov. Telephone: (202) 366-0304.

SUPPLEMENTARY INFORMATION: See waivers below.

Waiver: MEI BNA57/542 Banknote Validator

Date Issued: October 20, 2006. Alex Litchfield, Sales Director, Transit and Parking, Mars Electronics International (MEI), 1301 Wilson Dr., West Chester, PA 19390.

Re: Buy America Non-Availability Waiver for the MEI BNA57/542 Banknote Validator

Dear Mr. Litchfield:

This letter responds to your April 26, 2006, request for a Buy America non-availability waiver for the Sodeco BNA57/542 Banknote Validator (“BNA57/542”), which is manufactured in Switzerland for use in ticket vending machines.

The Buy America Act requires, with few exceptions, that all steel, iron and manufactured goods used in FTA-funded projects be produced in the United States. One such exception is that of non-availability—that in some instances steel, iron, and goods produced in the United States are not produced in the United States in sufficient and reasonably available quantities or are not of a satisfactory quality. Therefore, Congress authorized FTA to waive the above requirement and allow, based on non-availability, the use in an FTA-funded project of steel, iron or manufactured goods produced outside the United States.

FTA verified non-availability of the BNA57/542 by publishing the following notice on its public Web site— http://www.fta.dot.gov—and the Docket Management System Web site—dms.dot.gov, Docket No. FTA-2006-25883, and allowing 30 days for public comment:

Mars Electronics International (“MEI”) has requested a component non-availability waiver for the Sodeco BNA57/542 Banknote Validator (“BNA57/542”), manufactured in Switzerland for use in ticket vending machines. The BNA 57/542 has the following features: 6, 13, 30 or 90 banknote types with 4-way insertion, 2 second transaction time between notes, new banknotes programmable through network, 15 banknotes escrow. A datasheet describing the BNA57/542 can be accessed on MEI's Web site at http://www.meiglobal.com. MEI asserts that the BNA57/542, or its functional equivalent, is not available from a U.S. source. If granted, this waiver would permit ticket vending machine manufacturers to install the BNA57/542 and count it as domestic for purposes of Buy America compliance.

Please note “MEI BNA57/542” in the subject line and submit comments by close of business October 20, 2006, to jayme.blakesley@dot.gov. For more information on Buy America, please see 49 CFR 661.7(d) and 661.9(d).

Thirty days have passed since publication of the above notice, and no party has indicated that a U.S. manufacturer produces banknote validators in sufficient and reasonably available quantities and of a satisfactory quality. Therefore, FTA hereby grants MEI a non-availability waiver for the BNA57/542 for a period of 2 years, or until such time as a domestic source for this type of unit becomes available, whichever occurs first. This waiver will permit ticket vending machine manufacturers to install the SA-595 and count it as domestic for purposes of Buy America compliance.

If you have any questions, please contact Jayme L. Blakesley at (202) 366-0304 or jayme.blakesley@dot.gov.

Sincerely, David B. Horner, Chief Counsel, Federal Transit Administration.

Waiver: Asahi Seiko Model SA-595 Compact Coin Dispensing Hopper

Date Issued: October 20, 2006. Steve Poulos, General Manager, Asahi Seiko USA, Inc., 6644 Paradise Road, Las Vegas, NV 89119.

Re: Buy America Non-Availability Waiver for Model SA-595 Compact Coin Dispensing Hopper.

Dear Mr. Poulos:

This letter responds to your August 14, 2006, request for an extension of a Buy America non-availability waiver for the Asahi Seiko Model SA-595 Compact Coin Dispensing Hopper (“SA-595”), which is manufactured in Japan for use in ticket vending machines. For the reasons below, I have determined that a non-availability waiver is appropriate here.

The Buy America Act requires, with few exceptions, that all steel, iron and manufactured goods used in FTA-funded projects be produced in the United States. One such exception is that of non-availability—that in some instances steel, iron, and goods produced in the United States are not produced in the United States in sufficient and reasonably available quantities or are not of a satisfactory quality. Therefore, Congress authorized FTA to waive the above requirement and allow, based on non-availability, the use in an FTA-funded project of steel, iron or manufactured goods produced outside the United States.

FTA verified non-availability of the SA-595 by publishing the following notice on its Web site— http://www.fta.dot.gov—and the Docket Management System Web site— http://dms.dot.gov, Docket No. FTA-2006-25860, and allowing 30 days for public comment:

Asahi Seiko USA, Inc. (“Asahi Seiko”) has requested an extension of its component waiver for its Model SA 595 Compact Coin Dispensing Hopper (“SA-595”), manufactured for use in ticket vending machines. The unit is a low profile, bulk coin dispensing hopper module, a device able to hold a quantity of coins in a hopper and dispense them for change in a secure and accurate manner upon electronic command. Asahi Seiko asserts that the SA-595, or its functional equivalent, is not available from a U.S. source. If granted, an extension of this waiver would permit ticket vending machine manufacturers to install the SA-595 and count it as domestic for purposes of Buy America compliance.

Please note “Asahi” in the subject line and submit comments by close of business October 13, 2006, to jayme.blakesley@dot.gov. For more information on Buy America, please see 49 CFR 661.7(d) and 661.9(d).

Thirty days have passed since publication of the above notice, and no party has indicated that a U.S. manufacturer produces coin dispensing hoppers in sufficient and reasonably available quantities and of a satisfactory quality. Therefore, FTA hereby extends Asahi Seiko's non-availability waiver for the SA-595 for a period of 2 years, or until such time as a domestic source for this type of unit becomes available, whichever occurs first. This waiver will permit ticket vending machine manufacturers to install the SA-595 and count it as domestic for purposes of Buy America compliance.

If you have any questions, please contact Jayme L. Blakesley at (202) 366-0304 or jayme.blakesley@dot.gov.

Sincerely, David B. Horner, Chief Counsel, Federal Transit Administration.

Waiver: Nextek BV-6000 Currency Validator Tekpak

Date Issued: October 20, 2006. Norman Diamond, President, Nextek Corporation, 3300 Commercial Avenue, Northbrook, IL 60062.

Re: Buy America Non-Availability Waiver for the BV-6000 Currency Validator Tekpak.

Dear Mr. Diamond:

This letter responds to your June 19, 2006, request for a Buy America non-availability waiver for the BV-6000 Currency Validator Tekpak (“BV-6000”), which is manufactured in Japan for use in ticket vending machines. For the reasons below, I have determined that a non-availability waiver is appropriate here.

The Buy America Act requires, with few exceptions, that all steel, iron and manufactured goods used in FTA-funded projects be produced in the United States. One such exception is that of non-availability—that in some instances steel, iron, and goods produced in the United States are not produced in the United States in sufficient and reasonably available quantities or are not of a satisfactory quality. Therefore, Congress authorized FTA to waive the above requirement and allow, based on non-availability, the use in an FTA-funded project of steel, iron or manufactured goods produced outside the United States.

FTA verified non-availability of the BV-6000 by publishing the following notice on its public Web site— http://www.fta.dot.gov—and the Docket Management System Web site— http://dms.dot.gov, Docket No. FTA-2006-25861, and allowing 30 days for public comment:

Nextek Corporation (“Nextek”) has requested a component non-availability waiver for its model BV-6000 Currency Validator Tekpak (“BV-6000”), manufactured for use in ticket vending machines, automatic fare collection and automatic teller machines. It has the following features: accepts any currency, any four-way orientation bill insertion, 15 bill escrow, 1,000 bill cashbox, optical/magnetic bill recognition, high acceptance rate with security, less than 2 seconds for bill processing, one-way bill transport system, internal transaction memory for auditing and testing, easy access without any tools, and the ability to free jammed bills and clean bill guideways easily. Nextek asserts that the BV-6000, or its functional equivalent, is not available from a U.S. source. If granted, this waiver would permit ticket vending machine manufacturers to install the BV-6000 and count it as domestic for purposes of Buy America compliance.

Please note “Nextek” in the subject line and submit comments by close of business October 13, 2006, to jayme.blakesley@dot.gov. For more information on Buy America, please see 49 CFR 661.7(d) and 661.9(d).

Thirty days have passed since publication of the above notice, and no party has indicated that a U.S. manufacturer produces currency validator tekpaks in sufficient and reasonably available quantities and of a satisfactory quality. Therefore, FTA hereby grants Nextek's non-availability waiver for the BV-6000 for a period of two years, or until such time as a domestic source for this type of unit becomes available, whichever occurs first. This waiver will permit ticket vending machine manufacturers to install the BV-6000 and count it as domestic for purposes of Buy America compliance.

If you have any questions, please contact Jayme L. Blakesley at (202) 366-0304 or jayme.blakesley@dot.gov.

Sincerely, David B. Horner, Chief Counsel, Federal Transit Administration.

Issued: October 20, 2006.
David B. Horner,
Chief Counsel.

[FR Doc. E6-18260 Filed 10-30-06; 8:45 am]

BILLING CODE 4910-57-P